FEDERAL COMMUNICATIONS COMMISSION

[GN Docket No. 18-122, DA 20-457; FRS 16710]

Wireless Telecommunications Bureau Seeks Comment on Preliminary Cost Category Schedule For 3.7-4.2 GHz Band Relocation Expenses

AGENCY: Federal Communications Commission.

ACTION: Notice; solicitation of comments.

SUMMARY: In this document, the Wireless Telecommunications Bureau (Bureau) invites interested parties to comment on the 3.7 GHz Transition Preliminary Cost Category Schedule of Potential Expenses and Estimated Costs (Cost Catalog). The Cost Catalog contains preliminary categories and estimates of expenses that incumbents may incur as they clear FSS operations from the 3.7-4.0 GHz portion of the band and Fixed Service operations from the entire 3.7-4.2 GHz band (C-band) to make the lower 280 megahertz available for flexible use. In Expanding Flexible Use of the 3.7 to 4.2 GHz Band Report and Order, GN Docket No. 18-122, Report and Order and Order of Proposed Modification, FCC 20-22 (Mar. 3, 2020) (Order), the Commission established that new 3.7 GHz Service licensees will reimburse reasonable relocation costs of incumbents to transition out of the band and directed the Wireless Telecommunications Bureau (Bureau) to establish a cost category schedule of the types of expenses that incumbents may incur.

DATES: Comments are due on or before May 12, 2020.

ADDRESSES: You may submit comments, identified by GN Docket No. 18-122, by any of the following methods:

Electronic Filers: Comments may be filed electronically using the internet by accessing the ECFS: http://apps.fcc.gov/ecfs/.

Paper Filers: Parties who choose to file by paper must file an original and one copy of each filing.

Filings can be sent by commercial overnight courier, or by first-class or overnight U.S. Postal Service mail. All filings must be addressed to the Commission's Secretary, Office of the Secretary, Federal Communications Commission.

Commercial overnight mail (other than U.S. Postal Service Express Mail and Priority Mail) must be sent to 9050 Junction Drive, Annapolis Junction, MD 20701.U.S.

Postal Service first-class, Express, and Priority mail must be addressed to 445 12th Street, SW, Washington DC 20554.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

During the time the Commission's building is closed to the general public and until further notice, if more than one docket or rulemaking number appears in the caption of a proceeding, paper filers need not submit two additional copies for each additional docket or rulemaking number; an original and one copy are sufficient.

FOR FURTHER INFORMATION CONTACT: Susannah Larson, Wireless Telecommunications Bureau, at (202) 418-1883 or via email: susannah.larson@fcc.gov.

SUPPLEMENTARY INFORMATION: This is a summary of the Public Notice, Wireless Telecommunications Bureau Seeks Comment on Preliminary Cost Category Schedule For 3.7-4.2 GHz Band Relocation Expenses, GN Docket No. 18-122, DA 20-457 (Public Notice), released on April 27, 2020. The Public Notice includes the following attachment: Attachment, 3.7 GHz Transition Preliminary Cost Category Schedule of Potential Expenses and Estimated Costs. The complete text of the Public Notice, including its attachment, is available on the Commission's website at https://www.fcc.gov/document/wtb-seeks-comment-37-ghz-band-preliminary-cost-category or by using the search function for GN Docket No. 18-122 on the Commission's ECFS web page at www.fcc.gov/ecfs.

Pursuant to §§ 1.415 and 1.419 of the Commission's rules, 47 CFR 1.415, 1.419, interested parties may file comments on or before the date indicated on the first page of this document.

People with Disabilities: To request materials in accessible formats for people with disabilities (braille, large print, electronic files, audio format), send an email to fcc504@fcc.gov or call the Consumer & Governmental Affairs Bureau at 202-418-0530 (voice), 202-418-0432 (tty).

Ex Parte Rules: This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) list all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). Participants in this proceeding should familiarize themselves with the Commission's ex parte rules.

Synopsis

In the Order (85 FR 22804 (April 23, 2020)), the Commission adopted rules to make 280 megahertz of mid-band spectrum available for flexible use, plus a 20 megahertz guard band throughout the contiguous United States by transitioning existing services out of the lower portion and into the upper 200 megahertz of the C-band. The Order established that new 3.7 GHz Service licensees will reimburse the reasonable relocation costs of eligible Fixed Satellite Service (FSS) space station operators, incumbent FSS earth station operators, and incumbent Fixed Service licensees (collectively, incumbents) to transition out of the band. To provide incumbents and new 3.7 GHz Service licensees with a range of reasonable transition costs, the Order directed the Bureau to establish a cost category schedule of the types of expenses that incumbents may incur. The Order provided for the creation of a Relocation Payment Clearinghouse to oversee the cost-related aspects of the transition, including by collecting relocation payments from overlay licensees and disbursing those payments to incumbents. In determining the reasonableness of costs for which incumbents seek reimbursement, the Order directed that the Relocation Payment Clearinghouse shall presume as reasonable all submissions that fall within the estimated range of costs in the final cost category schedule.

The Cost Catalog (included as an attachment to the Public Notice) contains categories and estimates of expenses that incumbents may incur as they clear FSS operations from the 3.7-4.0 GHz portion of the band and Fixed Service operations from the entire C-band to make the lower 280 megahertz available for flexible use. The Commission engaged a third-party contractor, RKF Engineering Solutions, LLC (RKF), to assist in identifying costs that incumbents might incur and to assist with the development of a cost category schedule. To compile the information needed for the preliminary Cost Catalog, RKF considered the Order's initial relocation cost estimates, derived from comments and filings in the record, and conducted confidential interviews with a broad range of stakeholders, including satellite operators, earth station operators, Fixed Service licensees, and vendors. With this input from RKF, and in accordance with the Commission's directions, the Bureau has developed this Cost Catalog.

The Bureau seeks comment on the Cost Catalog, including whether the preliminary categories and estimated expenses for each are reasonable. Although the Cost Catalog represents an initial summary of estimated expenses that eligible incumbents may incur, the Bureau encourages commenters to identify any additional expense categories that they believe should be eligible for reimbursement and prices that should be associated with those categories. Does the Cost Catalog cover every situation? If not, what are additional situations that the Bureau should consider? For both the initial summary set out in the Cost Catalog and for any additions to the Cost Catalog that commenters may suggest, the Bureau is interested in obtaining information on specific prices, as well as more general information on the costs that incumbents expect to incur.

The Cost Catalog also contains preliminary categories of the various classes of earth stations that may choose to receive a lump sum payment in place of their actual reasonable relocation costs. The Order established that incumbent earth station operators may either accept (1) reimbursement for their actual reasonable relocation costs by maintaining satellite reception; or (2) a lump sum reimbursement “based on the average, estimated costs of relocating all of their incumbent earth stations” to the upper 200 megahertz of the C-band. The Bureau seeks comment on the preliminary categories provided in the Cost Catalog and whether they cover the relevant classes of earth stations. If not, what are additional relevant classes of earth stations that the Bureau should consider including? The Bureau also seeks comment on the appropriate lump sum amounts for each category, which will be based on the average estimated costs of relocation for that class of earth station. What are the specific costs and prices that should be included in the lump sum amount for each class of earth station? The Bureau will determine the final lump sum amounts according to the final estimated earth station transition costs in the final Cost Catalog. Consistent with the Order, the Bureau will publish the final lump sum amounts and provide instructions for making such an election, after considering the record compiled on the foregoing issues.

Amy Brett,
Associate Chief, Competition and Infrastructure Policy Division, Wireless Telecommunications Bureau.

[FR Doc. 2020-09496 Filed 5-1-20; 8:45 am]

BILLING CODE 6712-01-P